DEPARTMENT OF HEALTH AND HUMAN SERVICES

National Institutes of Health

Submission for OMB Review; 30-Day Comment Request; Application for the Postdoctoral Research Associate Program

SUMMARY: Under the provisions of Section 3507(a)(1)(D) of the Paperwork Reduction Act of 1995, the National Institutes of Health (NIH) has submitted to the Office of Management and Budget (OMB) a request to review and approve the information collection listed below. This proposed information collection was previously published in the Federal Register on July 23, 2013, pages 44135-44136, and allowed 60 days for public comment. No public comments were received. The purpose of this notice is to allow an additional 30 days for public comment. The National Institute of General Medical Sciences (NIGMS), National Institutes of Health may not conduct or sponsor, and the respondent is not required to respond to, an information collection that has been extended, revised, or implemented on or after October 1, 1995, unless it displays a currently valid OMB control number.

Direct Comments to OMB: Written comments and/or suggestions regarding the item(s) contained in this notice, especially regarding the estimated public burden and associated response time, should be directed to the: Office of Management and Budget, Office of Regulatory Affairs, OIRA_submission@omb.eop.gov or by fax to 202-395-6974, Attention: NIH Desk Officer.

Comments Due Date: Comments regarding this information collection are best assured of having their full effect if received within 30 days of the date of this publication.

FOR FURTHER INFORMATION CONTACT: To obtain a copy of the data collection plans and instruments or request more information on the proposed project contact: Ms. Tammy Dean-Maxwell, NIGMS, NIH, Natcher Building, Room 3AN-44, 45 Center Drive, MSC 6200, Bethesda, MD 20892-6200, or call non-toll-free number 301-594-2755 or Email your request, including your address to deanmat@mail.nih.gov. Formal requests for additional plans and instruments must be requested in writing.

Proposed Collection: The Postdoctoral Research Associate Program is an Reinstatement without change for the currently approved collection, OMB No. 0925-0378, National Institute of General Medical Sciences (NIGMS), National Institutes of Health (NIH).

Need and Use of Information Collection: The Postdoctoral Research Associate (PRAT) Program will use the applicant and referee information to award opportunities for training and experience in laboratory or clinical investigation to individuals with a Ph.D. degree in an NIGMS designated emerging area of research or a related science, M.D., or other professional degree through appointments as PRAT Fellows at the National Institutes of Health or the Food and Drug Administration. The goal of the program is to develop leaders in designated emerging areas of research for key positions in academic, industrial, and Federal research laboratories.

OMB approval is requested for 3 years. There are no costs to respondents other than their time. The total estimated annualized burden hours are 331.

Estimated Annualized Burden Hours
Form name | Type of respondent | Number of respondents | Number of responses per respondent | Average burden per response (in hours) | Total annual burden hour
PRAT Primary Application (NIH 2721-1) | Applicants | 25 | 1 | 8 | 200
PRAT Request for Evaluation Form (NIH 2721-2) | Referee | 75 | 1 | 105/60 | 131

Dated: September 27, 2013.
Sally Lee,
Executive Officer, National Institute of General Medical Sciences, National Institutes of Health.

[FR Doc. 2013-24997 Filed 10-23-13; 8:45 am]

BILLING CODE 4140-01-P